DEPARTMENT OF TRANSPORTATION

Federal Aviation Administration

14 CFR Part 39

[Docket No. FAA-2005-23284; Directorate Identifier 2005-NM-163-AD]

RIN 2120-AA64

Airworthiness Directives; BAE Systems (Operations) Limited Model BAe 146 and Avro 146-RJ Airplanes

AGENCY: Federal Aviation Administration (FAA), Department of Transportation (DOT).

ACTION: Notice of proposed rulemaking (NPRM).

SUMMARY: The FAA proposes to supersede an existing airworthiness directive (AD) that applies to certain BAE Systems (Operations) Limited Model BAe 146 and Avro 146-RJ airplanes. The existing AD requires one-time inspections of the inner webs and flanges at frames 15, 18, 41, and 43 for evidence of corrosion or cracking; and corrective actions if necessary. This proposed AD would instead require new repetitive inspections and expand the area to be inspected. This proposed AD would also expand the applicability and provide an optional action that would extend the repetitive inspection interval. This proposed AD results from a report indicating that in some cases the inspections required by the existing AD revealed no damage, yet frame corrosion and cracking were later found during scheduled maintenance in the two forward fuselage frames 15 and 18. We are proposing this AD to prevent reduced structural integrity of the airplane.

DATES: We must receive comments on this proposed AD by January 12, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “Docket No. FAA-2005-23284; Directorate Identifier 2005-NM-163-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On December 29, 2003, we issued AD 2004-01-07, amendment 39-13421 (69 FR 869, January 7, 2004), for certain BAE Systems (Operations) Limited Model BAe 146 and Avro 146-RJ airplanes. That AD requires one-time inspections of the inner webs and flanges at frames 15, 18, 41, and 43 for evidence of corrosion or cracking; and corrective actions if necessary. That AD resulted from a report of cracking discovered at the inner webs and flanges at frame 18, caused by an ingress of moisture and subsequent corrosion. We issued that AD to detect and correct corrosion and cracking of the inner webs and flanges at frames 15, 18, 41, and 43, which could result in reduced structural integrity of the airplane.

Actions Since Existing AD Was Issued

Since we issued AD 2004-01-07, we have learned that in some cases the required inspections revealed no damage, yet frame corrosion and cracking were later found during scheduled maintenance in the two forward fuselage frames 15 and 18. Consequently, BAe Systems developed the new inspections described below.

Relevant Service Information

The manufacturer has issued BAE Systems (Operations) Limited Inspection Service Bulletin ISB.53-182, dated March 16, 2005. In contrast to BAE Systems (Operations) Limited Inspection Service Bulletin ISB.53-165, dated December 11, 2001 (cited in AD 2004-01-07), this new service bulletin provides a more rigorous inspection of the frame flanges and an overall inspection of the frames; expands the inspection area to the full circumference of the frame; and includes the optional application of improved corrosion-preventive treatment, which would extend the repetitive inspection interval. The service bulletin describes procedures for repetitive inspections of frames 15, 18, 41, and 43 to detect signs of corrosion (including cracks, blistering, or flaking paint).

• Inspection 1 involves a high-frequency eddy current (HFEC) inspection of the frame inner flange and a detailed visual inspection of all visible surfaces of the frame below the floor.

• Inspection 2 involves an HFEC inspection of the frame inner flange and a detailed visual inspection of all visible surfaces of the frame at the floor level and above.

• Inspection 3 involves a detailed visual inspection of all accessible frame surfaces at the floor level to 6 inches above the floor level. If Inspection 3 is done in lieu of Inspection 2, Inspection 2 must eventually be done within 2 years.

Corrective actions for corrosion include blending to the limits specified in the structural repair manual (SRM), and reprotecting all base metals to SRM specifications. The service bulletin provides for an optional corrosion-preventive treatment, which would extend the repetitive inspection interval.

The service bulletin recommends that the oldest airplanes be inspected within 6 months, and newer airplanes within 12 or 24 months, depending on specified criteria. The service bulletin provides additional time to complete the inspections for operators with more than 6 airplanes over 180 months in their fleet. The repetitive intervals range from 12 to 48 months, depending on specified criteria.

Accomplishing the actions specified in the service information is intended to adequately address the unsafe condition. The CAA mandated the service information and issued British airworthiness directive G-2005-0019, dated July 6, 2005, to ensure the continued airworthiness of these airplanes in the United Kingdom.

FAA's Determination and Requirements of the Proposed AD

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that AD action is necessary for airplanes of this type design that are certificated for operation in the United States.

This proposed AD would supersede AD 2004-01-07. This proposed AD would require accomplishing the actions specified in Service Bulletin ISB.53-182, described previously, except as discussed below.

Difference Between the Proposed AD and Service Information

The service bulletin specifies compliance times relative to the date of issuance of the service bulletin; however, this proposed AD would require compliance before the specified compliance time after the effective date of this AD.

Clarification of Inspection Terminology

The “detailed visual inspection” specified in the service bulletin is referred to as a “detailed inspection” in this proposed AD. Note 1 of this proposed AD defines this type of inspection.

Costs of Compliance

The following table provides the estimated costs for U.S. operators to comply with this proposed AD.

Estimated Costs
Action | Work hours | Average labor rate per hour | Parts cost | Cost per airplaine | Number of U.S.-registered airplanes | Fleet cost
HFEC inspection, per inspection cycle | 5 | $65 | None | $325 | 55 | $17,875
Detailed inspection, per inspection cycle | 3 | 65 | None | 195 | 55 | 10,725

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13421 (69 FR 869, January 7, 2004) and adding the following new airworthiness directive (AD):

BAE Systems (Operations) Limited (Formerly British Aerospace Regional Aircraft): Docket No. FAA-2005-23284; Directorate Identifier 2005-NM-163-AD.

Comments Due Date

(a) The FAA must receive comments on this AD action by January 12, 2006.

Affected ADs

(b) This AD supersedes AD 2004-01-07.

Applicability

(c) This AD applies to all BAE Systems (Operations) Limited Model BAe 146-100A, -200A, and -300A series airplanes; and Model Avro 146-RJ70A, 146-RJ85A, and 146-RJ100A airplanes; certificated in any category.

Unsafe Condition

(d) This AD results from a report indicating that in some cases the inspections required by AD 2004-01-07 revealed no damage, yet frame corrosion and cracking were later found during scheduled maintenance in the two forward fuselage frames 15 and 18. We are issuing this AD to prevent reduced structural integrity of the airplane.

Compliance

(e) You are responsible for having the actions required by this AD performed within the compliance times specified, unless the actions have already been done.

Inspections

(f) Use high-frequency eddy current and detailed methods to inspect for signs of corrosion of frames 15, 18, 41, and 43, in accordance with the Accomplishment Instructions of BAE Systems (Operations) Limited Inspection Service Bulletin ISB.53-182, dated March 16, 2005. Inspect at the applicable time specified in 1.D. “Compliance” of the service bulletin. Application of corrosion-preventive treatment, in accordance with the service bulletin, extends the repetitive inspection interval, as specified in Table 2 in 1.D. “Compliance” of the service bulletin.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Corrective Action

(g) If any discrepancy is found during any inspection required by paragraph (f) of this AD: Before further flight, perform applicable related investigative/corrective actions in accordance with the Accomplishment Instructions of BAE Systems (Operations) Limited Inspection Service Bulletin ISB.53-182, dated March 16, 2005, except as required by paragraph (h) of this AD.

Exceptions to Service Bulletin Specifications

(h) If the service bulletin referenced in this AD specifies to contact the manufacturer for appropriate action, before further flight, repair per a method approved by the Manager, International Branch, ANM-116, FAA, Transport Airplane Directorate; or the Civil Aviation Authority (or its delegated agent).

(i) Although the service bulletin referenced in this AD specifies to submit information to the manufacturer, this AD does not include such a requirement.

(j) Where the service bulletin specifies a compliance time after the issuance of the service bulletin, this AD requires compliance within the specified compliance time after the effective date of this AD. And where the service bulletin specifies a compliance time “since date of construction” of the airplane, this AD requires compliance since the date of issuance of the original standard airworthiness certificate or the date of issuance of the original export certificate of airworthiness.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) British airworthiness directive G-2005-0019, dated July 6, 2005, also addresses the subject of this AD.

Issued in Renton, Washington, on December 6, 2005.
Kevin M. Mullin,
Acting Manager, Transport Airplane Directorate, Aircraft Certification Service.

[FR Doc. 05-23955 Filed 12-12-05; 8:45 am]

BILLING CODE 4910-13-P